ENVIRONMENTAL PROTECTION AGENCY

[FRL-6709-3]

Science Advisory Board; Notification of Public Advisory Committee Meeting

Pursuant to the Federal Advisory Committee Act, Public Law 92-463, notice is hereby given that a committee of the US EPA Science Advisory Board (SAB) will meet on the dates and times noted below. All times noted are Eastern Daylight Time. All meetings are open to the public, however, seating is limited and available on a first come basis. Important Notice: Documents that are the subject of SAB reviews are normally available from the originating EPA office and are not available from the SAB Office—information concerning availability of documents from the relevant Program Office is included below.

The Integrated Human Exposure Committee (IHEC) of the US EPA Science Advisory Board (SAB), will meet on July 10-11, 2000 in Meeting Room A&B, at the Radisson Governors Inn, P.O. Box 12168, Research Triangle Park, NC 27709 (located on I-40, Exit 280-Davis Drive. The hotel telephone number 919-549-8631. The meeting will begin 9 a.m. on July 10, and adjourn no later than 5 p.m. on July 11.

Purpose of the Meeting—EPA must be able to estimate the number of people exposed to various pollutants (as well as the magnitude and duration of the exposure in) order to evaluate the risks posed by these pollutants in the environment. To respond to these needs, EPA's Office of Research and Development sponsored three related pilot studies known as National Human Exposure Assessment Survey (NHEXAS). The NHEXAS studies tested protocols for acquiring population distributions of exposure measurements and by developing exposure databases for use in exposure models, exposure assessment, and risk assessment. The IHEC met in September 1998 to assess these studies and recommend future courses of action. The report resulting from this meeting (An SAB Advisory: The National Human Exposure Assessment Survey (NHEXAS) Pilot Studies (EPA-SAB-IHEC-ADV-99-004, February 1999) included a recommendation to develop a strategic plan for completing the analysis of the NHEXAS pilot data. The EPA drafted such a plan, intended to provide broad guidance to EPA decision makers on resources and to those who would undertake analyses. EPA subsequently requested that the IHEC review the draft strategic plan, resulting in the planned July meeting.

Charge to the Subcommittee—The Charge asks the IHEC to respond to the following four questions:

(a) Does the Strategy encompass all the significant needed analysis projects? If not, which should be added or deleted? (e.g., is the list of projects good?)

(b) Even if all the projects are optimal, are they strategically presented and prioritized? Would alternative strategic criteria be useful? (e.g., is the prioritization good?)

(c) Is the Strategy likely to be useful to ORD management for resource allocation (e.g., is it of sufficient quality for managerial use)?

(d) Does the Strategy provide adequate guidance to scientists for developing the most useful analysis tasks?

Availability of Review Materials: The principal review document, Strategic Plan for the Analysis of the National Human Exposure Assessment Survey (NHEXAS) Pilot Study Data, is available on the Internet at the SAB website (http://www.epa.gov/sab), or by request to Ms. Brenda Thompson, phone 919-541-1346, or by email to thompson.brenda@epa.gov

For Further Information Contact: Any member of the public wishing further information concerning this meeting or wishing to submit brief oral comments (10 minutes or less) must contact Samuel Rondberg, Designated Federal Officer, Science Advisory Board (1400A), U.S. Environmental Protection Agency, 1200 Pennsylvania Avenue, NW, Washington, DC 20460; telephone (301) 812-2560, FAX (410) 286-2689; or via e-mail at samuelr717@aol.com. Requests for oral comments must be in writing (e-mail, fax or mail) and received by Mr. Rondberg no later than noon Eastern Daylight Time on June 28, 2000.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact the DFO at least five business days prior to the meeting so that appropriate arrangements can be made.

Dated: May 25, 2000.
Donald G. Barnes,
Staff Director,, Science Advisory Board.

[FR Doc. 00-13977 Filed 6-2-00; 8:45 am]

BILLING CODE 6560-50-P